DEPARTMENT OF THE INTERIOR

National Park Service

[NPS-WASO-NAGPRA-22752: PPWOCRADN0-PCU00RP14.R50000]

Notice of Inventory Completion: Arkansas Archeological Survey, Fayetteville, AR

AGENCY: National Park Service, Interior.

ACTION: Notice.

SUMMARY: The Arkansas Archeological Survey has completed an inventory of human remains and associated funerary objects, in consultation with the appropriate Indian tribes or Native Hawaiian organizations, and has determined that there is a cultural affiliation between the human remains and associated funerary objects and present-day Indian tribes or Native Hawaiian organizations. Lineal descendants or representatives of any Indian tribe or Native Hawaiian organization not identified in this notice that wish to request transfer of control of these human remains and associated funerary objects should submit a written request to the Arkansas Archeological Survey. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to the Arkansas Archeological Survey at the address in this notice by March 27, 2017.

ADDRESSES: Dr. George Sabo, Director, Arkansas Archeological Survey, 2475 North Hatch Avenue, Fayetteville, AR 72704, telephone (479) 575-3556.

SUPPLEMENTARY INFORMATION: Notice is here given in accordance with the Native American Graves Protection and Repatriation Act (NAGPRA), 25 U.S.C. 3003, of the completion of an inventory of human remains and associated funerary objects under the control of the Arkansas Archeological Survey, Fayetteville, AR. The human remains and associated funerary objects were removed from multiple counties in the state of Arkansas.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Arkansas Archeological Survey professional staff in consultation with representatives of the Caddo Nation, The Osage Nation (previously listed as the Osage Tribe), and The Quapaw Tribe of Indians. These human remains were inventoried and documented by physical anthropologists at the University of Arkansas.

History and Description of the Remains

At an unknown date, human remains representing at minimum, one individual were removed from the East site (3CL21) in Clark County, AR. These human remains were donated to the Arkansas Archeological Survey in 2015. No known individual was identified. No associated funerary objects were present. Diagnostic artifacts found at the East site (3CL21) indicate that these human remains were probably buried during the Caddo tradition (A.D. 900-1650).

At an unknown date, human remains representing, at minimum, four individuals were removed from site 3CL24 in Clark County, AR. These human remains were donated to the Arkansas Archeological Survey in 1974. No known individuals were identified. No associated funerary objects were present. Diagnostic artifacts found at site 3CL24 indicate that these human remains were probably buried during the Prehistoric Period (11,650 B.C.-A.D. 1541).

At an unknown date, human remains representing, at minimum, one individual were removed from the Bayou Sel site (3CL27) in Clark County, AR. These human remains were donated to the Arkansas Archeological Survey in 1973. No known individual was identified. No associated funerary items were present. Diagnostic artifacts found at the Bayou Sel site (3CL27) indicate that these human remains were probably buried during the Caddo tradition (A.D. 900-1650).

At an unknown date, human remains representing, at minimum, one individual were removed from the Copeland Ridge site (3CL195) in Clark County, AR. These human remains were donated to the Arkansas Archeological Survey in 1991. No known individual was identified. No associated funerary objects were present. Diagnostic artifacts found at the Copeland Ridge site (3CL195) indicate that these human remains were probably buried during the Caddo tradition (A.D. 900-1650), Late Caddo (A.D. 1450-1650), or Social Hill Phase (A.D. 1500-1600).

At an unknown date, human remains representing, at minimum, one individual were removed from site 3CL287 in Clark County, AR. These human remains were donated to the Arkansas Archeological Survey in 1980. No known individual was identified. No associated funerary objects were present. Diagnostic artifacts found at site 3CL287 indicate that these human remains were probably buried during the Late Caddo Period (A.D. 1450-1650).

In 1984, human remains representing, at minimum, two individuals were recovered from the Wilson site (3CV109) in Cleveland County, AR. No known individuals were identified. The associated funerary object includes one fragmentary Foster Incised/Keno trailed bowl (84-482). Diagnostic artifacts found at the Wilson site (3CV109) indicate that these human remains were probably buried during the Late Mississippi Period (A.D. 1350-1650) or Late Caddo Period (A.D. 1450-1650).

In 1970, human remains representing, at minimum, one individual were recovered from the Kelly Sears site (3CO3) in Columbia County, AR. No known individual was identified. No associated funerary objects were present. Diagnostic artifacts found at the Kelly Sears site (3CO3) indicate that these human remains were probably buried during the Woodland Period (650 B.C.-A.D. 950) or Fourche Maline tradition (500 B.C.-A.D. 900).

In 1971, human remains representing, at minimum, 10 individuals were recovered from the Hood site (3HE54) in Hempstead County, AR. No known individuals were identified. No associated funerary objects were present. Diagnostic artifacts found at the Hood site (3HE54) indicate that these human remains were probably buried during the Woodland Period (650 B.C.-A.D. 950) or Fourche Maline tradition (500 B.C.-A.D. 900).

In 1972 and 1974, human remains representing, at minimum, 20 individuals were recovered from the Ferguson site (3HE63) in Hempstead County, AR. No known individuals were identified. The 51 associated artifacts include 42 ceramic vessels, two broken siltstone discs, one cut shell, one tool kit, one worked flake, one Gary point, one fragmentary biface, one quartz crystal, and one clay objects (72-22). Diagnostic artifacts found at the Ferguson site (3HE63) indicate that these human remains were probably buried during the Fourche Maline tradition (500 B.C.-A.D. 900) or Haley Phase (A.D. 1200-1400).

At an unknown date, human remains representing, at minimum, one individual were recovered from the Purtle site (3HE70) in Hempstead County, AR. These human remains were donated to the Arkansas Archeological Survey in 1973. No known individual was identified. No associated funerary objects were present. Diagnostic artifacts found at the Purtle site (3HE70) indicate that these human remains were probably buried during the Woodland Period (650 B.C.-A.D. 950) or Fourche Maline tradition (500 B.C.-A.D. 900).

In 1983 and 1984, human remains representing, at minimum, five individuals were recovered from the Martin Farm site (3HE92) in Hempstead County, AR. No known individuals were identified. No associated funerary objects were present. Diagnostic artifacts found at the Martin Farm site (3HE92) indicate that these human remains were probably buried during the Woodland Period (650 B.C.-A.D. 950) or Fourche Maline tradition (500 B.C.-A.D. 900).

In 1996, human remains representing, at minimum, one individual were recovered from the Barkman Salt site (3HS10) in Hot Spring County, AR. No known individual was identified. No associated funerary objects were present. Diagnostic artifacts found at the Barkman Salt site (3HS10) indicate that these human remains were probably buried during the Caddo tradition (A.D. 900-1650).

In 1974, human remains representing, at minimum, one individual were recovered from site 3HS15 in Hot Spring County, AR. No known individual was identified. No associated funerary objects were present. Diagnostic artifacts found at site 3HS15 indicate that these human remains were probably buried during the Caddo tradition (A.D. 900-1650).

In 1976, human remains representing, at minimum, three individuals were recovered from site 3HS22 in Hot Spring County, AR. No known individuals were identified. No associated funerary objects were present. Diagnostic artifacts found at site 3HS22 indicate that these human remains were probably buried during the Late Caddo (A.D. 1450-1600) or Caddo IV Period (A.D. 1500-1700).

In 1972, human remains representing, at minimum, two individuals were recovered from site 3HS38 in Hot Spring County, AR. No known individuals were identified. No associated funerary objects were present. Diagnostic artifacts found at site 3HS38 indicate that these human remains were probably buried during the Late Caddo Period (A.D. 1450-1600) or Caddo IV Period (A.D. 1500-1700).

In 1996, human remains representing, at minimum, one individual were recovered from site 3HS450 in Hot Spring County, AR. No known individual was identified. No associated funerary objects were present. Diagnostic artifacts found at the site 3HS450 indicate that these human remains were probably buried during the Caddo III period (A.D. 1400-1500).

In 1992, human remains representing, at minimum, one individual were recovered near site 3LO17 in Logan County, AR. No known individual was identified. No associated funerary objects were present. Diagnostic artifacts found near site 3LO17 indicate that these human remains were probably buried during the Prehistoric Period (11,650 B.C.-A.D. 1541).

In 2016, human remains representing, at minimum, one individual were recovered from the surface of the Wild Violet Site (3LO226) in Logan County, AR. No known individual was identified. No associated funerary objects were present. Diagnostic artifacts found at the Wild Violet site (3LO226) indicate that these human remains were probably buried during the Late Archaic Period (2000 B.C.-A.D. 800) or Fourche Maline tradition (500 B.C.-A.D. 900).

In 1994, human remains representing, at minimum, one individual were recovered from the Moore/Higginbotham site (3MI3/30) in Miller County, AR. No known individual was identified. No associated funerary objects were present. Diagnostic artifacts found at the Moore/Higginbotham site (3MI3/30) indicate that these human remains were probably buried during the Fourche Maline tradition (500 B.C.-A.D. 900).

In 1968, 1969, 1983, and 2009, human remains representing, at minimum, 380 individuals were recovered from the Crenshaw site (3MI6) in Miller County, AR. No known individuals were identified. No associated funerary objects were present. Diagnostic artifacts and radiocarbon dates found at the Crenshaw site (3MI6) indicate that these human remains were probably buried during the Middle Caddo Period (A.D. 1200-1400).

In 1994, human remains representing, at minimum, one individual were recovered near the Caddo River in Montgomery County, AR. No known individual was identified. No associated funerary objects were present. Diagnostic artifacts found along the Caddo River indicate that these human remains were probably buried during the Prehistoric Period (11,650 B.C.-A.D. 1541).

At an unknown date, human remains representing, at minimum, two individuals were recovered from an unknown site in Ouachita County. These human remains were donated to the Arkansas Archeological Survey in 1987. No known individuals were identified. No associated funerary items were present. Diagnostic artifacts found in Ouachita County indicate that these human remains were probably buried during the Prehistoric Period (11,650 B.C.-A.D. 1541).

At an unknown date, human remains representing, at minimum, two individuals were recovered from the Slough Bend site (3SA7) in Saline County, AR. These human remains were donated to the Arkansas Archeological Survey in 1969. No known individuals were identified. No associated funerary objects were present. Diagnostic artifacts found at the Slough Bend site (3SA7) indicate that these human remains were probably buried during the Prehistoric Period (11,650 B.C.-A.D. 1541).

In 2002, human remains representing, at minimum, one individual were recovered from the Hughes Mound site (3SA11) in Saline County, AR. No known individual was identified. No associated funerary objects were present. Diagnostic artifacts found at the Hughes Mound site (3SA11) indicate that the human remains were probably buried during the Late Caddo Period (A.D. 1450-1650).

In 1978 and 1985, human remains representing, at minimum, two individuals were recovered from the Holman Springs site (3SV29) in Sevier County, AR. No known individuals were identified. The two associated funerary objects include one lot of grey clay and one ceramic vessel (85-380-270, 271). Diagnostic artifacts found at the Holman Springs site (3SV29) indicate that these human remains were probably buried during the Middle (A.D. 1300-1450) or Late Caddo Period (A.D. 1450-1650).

In 1987, human remains representing, at minimum, three individuals were recovered from the Wake site (3SV224) in Sevier County, AR. No known individuals were identified. No associated funerary objects were present. Diagnostic artifacts found at the Wake site (3SV224) indicate that these human remains were probably buried during the Late Woodland period (A.D. 600-950).

At an unknown date, human remains representing, at minimum, six individuals were recovered from the Bowman site in Southwest Arkansas. These human remains were donated to the Arkansas Archeological Survey in 1984. No known individuals were identified. No associated funerary objects were present. Diagnostic artifacts found at the Bowman site indicate that these human remains were probably buried during the Caddo tradition (A.D. 900-1650).

At an unknown date, human remains representing, at minimum, two individuals were recovered from an unknown location in Southwest Arkansas. These human remains were donated to the Arkansas Archeological Survey in 2006 and 2007. No known individuals were identified. No associated funerary objects were present. Diagnostic artifacts found in Southwest Arkansas indicate that these human remains were probably buried during the Prehistoric Period (11,650 B.C.-A.D. 1541).

At an unknown date, human remains representing, at minimum, one individual were recovered from an unknown location in Sebastian County, AR. These human remains were determined to be of Native American descent and were transferred to the Arkansas Archeological Survey. No known individual was identified. No associated funerary objects were present. Diagnostic artifacts found in Sebastian County, AR, indicate that these human remains were probably buried during the Prehistoric Period (11,650 B.C.-A.D. 1541).

At an unknown date, human remains representing, at minimum, one individual were recovered from an unknown location in Garland County, AR. These human remains were donated to the Arkansas Archeological Survey in 2015. No known individual was identified. No associated funerary objects were present. Diagnostic artifacts found in Garland County, AR, indicate that these human remains were probably buried during the Prehistoric Period (11,650 B.C.-A.D. 1541).

This notice includes a variety of terms commonly used in discussions of Arkansas archeology and the historical trajectories that gave rise to specific Native American communities identified in the historic record. Based on the archeological context for these sites and what is presently known about the peoples who pre-date the historic Caddo and occupied the sites listed in this notice, the Arkansas Archeological Society has determined the human remains listed in this notice are culturally affiliated with the Caddo Nation of Oklahoma.

Determinations Made by the Arkansas Archeological Survey

Officials of the Arkansas Archeological Survey have determined that:

• Pursuant to 25 U.S.C. 3001(9), the human remains described in this notice represent the physical remains of 459 individuals of Native American ancestry.

• Pursuant to 25 U.S.C. 3001(3)(A), the 54 objects described in this notice are reasonably believed to have been placed with or near individual human remains at the time of death or later as part of the death rite or ceremony.

• Pursuant to 25 U.S.C. 3001(2), there is a relationship of shared group identity that can be reasonably traced between the Native American human remains and the Caddo Nation of Oklahoma.

Additional Requestors and Disposition

Lineal descendants or representatives of any Indian tribe or Native Hawaiian organization not identified in this notice that wish to request transfer of control of these human remains and associated funerary objects should submit a written request with information in support of the request to Dr. George Sabo, Director, Arkansas Archeological Survey, 2475 North Hatch Avenue, Fayetteville, AR 72704, telephone (479) 575-3556, by March 27, 2017. After that date, if no additional requestors have come forward, transfer of control of the human remains and associated funerary objects to the Caddo Nation of Oklahoma may proceed.

The Arkansas Archeological Survey is responsible for notifying the Caddo Nation of Oklahoma that this notice has been published.

Dated: January 17, 2017,
Melanie O'Brien,
Manager, National NAGPRA Program.

[FR Doc. 2017-03614 Filed 2-23-17; 8:45 am]

BILLING CODE 4312-52-P